DEPARTMENT OF HEALTH AND HUMAN SERVICES

Centers for Disease Control and Prevention

Advisory Council for the Elimination of Tuberculosis

AGENCY: Centers for Disease Control and Prevention (CDC), Department of Health and Human Services (HHS).

ACTION: Notice of meeting.

SUMMARY: In accordance with regulatory provisions, the Centers for Disease Control and Prevention (CDC) announces the following meeting of the Advisory Council for the Elimination of Tuberculosis (ACET). This meeting is open to the public, limited only by the number of audio and web conference lines (1,000 audio and web conference lines are available). Time will be available for public.

DATES: The meeting will be held on June 20, 2023, from 9:30 a.m. to 5:30 p.m., EDT, and June 21, 2023, from 9 a.m. to 12 p.m., EDT.

Written comments must be submitted by June 13, 2023. Registration to make oral comments must also be submitted by June 13, 2023.

ADDRESSES: The telephone access number is 1-669-254-5252, Webinar ID: 160 044 5648, and the Passcode is 54633168. The web conference access is https://cdc.zoomgov.com/j/1610445648?pwd=dExvWksyUHRBMHBIcGg2V3VzSGQ1UT09, and the Passcode is 1@yr$G#H. The number of available audio and web conference lines is 1,000.

FOR FURTHER INFORMATION CONTACT: Marah Condit, MS, Committee Management Lead, Office of Policy, Planning, and Partnerships, National Center for HIV, Viral Hepatitis, STD, and TB Prevention, Centers for Disease Control and Prevention, 1600 Clifton Road NE, Mailstop US8-6, Atlanta, Georgia 30329-4027. Telephone: (404) 639-3423; Email: nchhstppolicy@cdc.gov.

SUPPLEMENTARY INFORMATION:

Purpose: The Advisory Council for the Elimination of Tuberculosis (ACET) advises and makes recommendations regarding the elimination of tuberculosis (TB) to the Secretary of Health and Human Services, the Assistant Secretary for Health, and the Director, Centers for Disease Control and Prevention (CDC). Specifically, the Council makes recommendations regarding policies, strategies, objectives, and priorities; addresses the development and application of new technologies; provides guidance and review on CDC's Tuberculosis Prevention Research portfolio and program priorities; and reviews the extent to which progress has been made toward eliminating TB.

Matters to be Considered: The agenda will include discussions on: (1) strengthening TB public health infrastructure through data modernization; (2) equitable access to TB diagnostics; (3) revisions to the Tuberculosis Technical Instructions for Panel Physicians and Civil Surgeons; and (4) provider education and access to TB diagnostics. Agenda items are subject to change as priorities dictate.

Public Participation

Written Public Comment: Members of the public are welcome to submit written comments in advance of the meeting. Written comments must be submitted by emailing nchhstppolicy@cdc.gov with subject line “ACET June 2023 Public Comment Registration” by June 13, 2023.

Oral Public Comment: Individuals who would like to make an oral comment during the public comment period must register by emailing nchhstppolicy@cdc.gov with subject line “ACET June 2023 Public Comment Registration” by June 13, 2023. The public comment period is on June 20, 2023, at 5 p.m., EDT.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-09547 Filed 5-4-23; 8:45 am]

BILLING CODE 4163-18-P